DEPARTMENT OF HEALTH AND HUMAN SERVICES

Health Resources and Services Administration

Meeting Notice Correction

AGENCY: Health Resources and Services Administration (HRSA), Department of Health and Human Services.

ACTION: Notice; correction.

SUMMARY: HRSA published a document in the Federal Register of December 20, 2022, concerning a meeting of the National Advisory Council on the National Health Service Corps (NACNHSC). The document referenced the incorrect year. The meeting date erroneously stated a meeting will occur in November 2022 when it should state November 2023.

FOR FURTHER INFORMATION CONTACT: Diane Fabiyi-King, Designated Federal Official, Division of National Health Service Corps, HRSA, 5600 Fishers Lane, Room 14N23, Rockville, Maryland 20857; phone (301) 443-3609; or NHSCAdvisoryCouncil@hrsa.gov.

SUPPLEMENTARY INFORMATION:

Correction

In the Federal Register of December 20, 2022, FR Doc. 2022-27532, page 77850, column 1, section two, bullet three, correct the “November 14, 2022, 9:00 a.m.-5:00 p.m. ET and November 15, 2022, 9 a.m.-2 p.m. ET” caption to read: November 14, 2023, 9 a.m.-5 p.m. ET and November 15, 2023, 9 a.m.-2 p.m. ET.

Maria G. Button,
Director, Executive Secretariat.

[FR Doc. 2023-01448 Filed 1-24-23; 8:45 am]

BILLING CODE 4165-15-P